ENVIRONMENTAL PROTECTION AGENCY

[EPA-HQ-OPP-2008-0143; FRL-8366-5]

The Association of American Pesticide Control Officials/State FIFRA Issues Research and Evaluation Group; Notice of Public Meeting

AGENCY: Environmental Protection Agency (EPA).

ACTION: Notice.

SUMMARY: The Association of American Pesticide Control Officials (AAPCO)/State FIFRA Issues Research and Evaluation Group (SFIREG) will hold a 2-day meeting, beginning on June 23, 2008 and ending June 24, 2008. This notice announces the location and times for the meeting and sets forth the tentative agenda topics.

DATES: The meeting will be held on Monday, June 23, 2008 from 8:30 a.m. to 5 p.m. and 8:30 a.m. to 12 noon on Tuesday, June24, 2008.

To request accommodation of a disability, please contact the person listed under FOR FURTHER INFORMATON CONTACT, preferably at least 10 days prior to the meeting, to give EPA as much time as possible to process your request.

ADDRESSES: The meeting will be held at EPA, One Potomac Yard (South Bldg) 2777 Crystal Drive, Arlington, VA., 4th Floor South Conference Room.

FOR FURTHER INFORMATION CONTACT: Georgia McDuffie, Field and External Affairs Division, 7506P. Office of Pesticide Programs, Environmental Protection Agency, 1200 Pennsylvania Ave., NW., Washington, DC 20460-0001; telephone number: (703) 605-0195; fax number: (703) 308-1850; e-mail address: mcduffie.georgia@epa.gov or Grier Stayton, SFIREG Executive Secretary, P.O. Box 466, Milford, DE 19963; telephone number: (302) 422-8152; fax (302) 422-2435; e-mail address: grier stayton.aapco-sfireg@comcast.net.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate. Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket ID number EPA-HQ-OPP-2008-0143. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

1. Web Based Labeling for Pesticides

2. Report from OPP and Office of Water on Cooperation on Pesticide Issues

3. Enforceability/Accountability of Label Language

4. PR Notice on HAVC Labeling and Regulated Community Concerns

5. Endangered Species Implementation

6. Update on Container/Containment Regulations and Revisions

7. Recycling Regulations

8. Tribal Pesticide Program Council Update

9. OPP and OECA Program Updates

10. AAPSE Update

11. Regional Reports

12. Working Committee Reports

13. Part Measures and Goals

14. Drift Mitigation Statements for Pyrethroids and 2,4-D

15. Update on Region 5 Pilot Project on Water Quality Benchmark Methods.

List of Subjects

Environmental protection.

Dated: May 16, 2008
William R. Diamond,
Director, Field External Affairs Division, Office of Pesticide Programs.

[FR Doc. E8-12616 Filed 6-5-08; 8:45 am]

BILLING CODE 6560-50-S